DEPARTMENT OF COMMERCE

International Trade Administration

[A-580-880]

Heavy Walled Rectangular Welded Carbon Steel Pipes and Tubes From the Republic of Korea: Preliminary Results and Rescission, in Part, of Antidumping Duty Administrative Review; 2021-2022

AGENCY: Enforcement and Compliance, International Trade Administration, Department of Commerce.

SUMMARY: The U.S. Department of Commerce (Commerce) preliminarily finds that heavy walled rectangular welded carbon steel pipes and tubes (HWR) from the Republic of Korea (Korea) were not sold at less than normal value during the period of review (POR) September 1, 2021, through August 31, 2022. In addition, Commerce is rescinding this administrative review in part with respect to two companies for which the request for review was timely withdrawn. We invite interested parties to comment on these preliminary results of review.

DATES: Applicable August 4, 2023.

FOR FURTHER INFORMATION CONTACT: Alice Maldonado, AD/CVD Operations, Office II, Enforcement and Compliance, International Trade Administration, U.S. Department of Commerce, 1401 Constitution Avenue NW, Washington, DC 20230; telephone: (202) 482-4682.

SUPPLEMENTARY INFORMATION:

Background

On September 13, 2016, Commerce published in the Federal Register the antidumping duty order on HWR from Korea.¹ On September 1, 2022, Commerce published in the Federal Register a notice of opportunity to request an administrative review of the Order.² On November 3, 2022, based on timely requests for review, in accordance with 19 CFR 351.221(c)(1)(i), we initiated an antidumping duty administrative review of three producers and exporters of the subject merchandise.³ On November 7, 2022, Dong-A-Steel Co., Ltd. and SeAH Steel Corporation (collectively, DOSCO/SeAH) withdrew its request for an administrative review.⁴ Commerce issued the antidumping duty (AD) questionnaire to the two remaining companies, HiSteel Co., Ltd. (HiSteel) and NEXTEEL Co., Ltd. (NEXTEEL). On December 20, 2022, HiSteel withdrew its request for an administrative review.⁵ Thus, we conducted a review with respect to the sole remaining company subject to the administrative review, NEXTEEL.

¹ See Heavy Walled Rectangular Welded Carbon Steel Pipes and Tubes from the Republic of Korea, Mexico, and the Republic of Turkey: Antidumping Duty Orders, 81 FR 62865 (September 13, 2016) (Order).

² See Antidumping or Countervailing Duty Order, Finding, or Suspended Investigation; Opportunity To Request Administrative Review and Join Annual Inquiry Service List, 87 FR 53719 (September 1, 2022).

³ See Initiation of Antidumping and Countervailing Duty Administrative Reviews, 87 FR 66275 (November 3, 2022).

⁴ See DOSCO/SeAH's Letter, “Withdrawal of Request for Administrative Review for DOSCO and SeAH Steel,” dated November 7, 2022. In a prior administrative review, Commerce collapsed Dong-A Steel Co., Ltd. with its affiliated producer, SeAH Steel Corporation, and we continue to treat these companies as a single entity, in accordance with 19 CFR 351.401(f). See Heavy Walled Rectangular Welded Carbon Steel Pipes and Tubes from the Republic of Korea: Final Results of Antidumping Duty Administrative Review; 2018-2019, 86 FR 35060, 35061 (July 1, 2021).

⁵ See HiSteel's Letter, “Withdrawal of Request for Administrative Review for HiSteel,” dated December 20, 2022.

On May 5, 2023, Commerce extended the preliminary results of this review until August 1, 2023.⁶ For a complete description of the events that followed the initiation of this review, see the Preliminary Decision Memorandum.⁷

⁶ See Memorandum, “Extension of Deadline for Preliminary Results of the 5th Antidumping Duty Administrative Review,” dated May 5, 2023.

⁷ See Memorandum, “Decision Memorandum for the Preliminary Results of Antidumping Duty Administrative Review; 2021-2022: Heavy Walled Rectangular Welded Carbon Steel Pipes and Tubes from the Republic of Korea,” dated concurrently with, and hereby adopted by, this notice (Preliminary Decision Memorandum).

Scope of the Order

The products covered by the Order are certain heavy walled rectangular welded steel pipes and tubes from Korea.⁸

⁸ For a complete description of the scope of the Order, see Preliminary Decision Memorandum.

Methodology

Commerce is conducting this review in accordance with section 751(a)(1)(B) and (2) of the Tariff Act of 1930, as amended (the Act). Export price is calculated in accordance with section 772 of the Act. Normal value is calculated in accordance with section 773 of the Act.

For a full description of the methodology underlying these preliminary results, see the Preliminary Decision Memorandum. A list of the topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Partial Rescission of Administrative Review

Pursuant to 19 CFR 351.213(d)(1), Commerce will rescind an administrative review, in whole or in part, if a party who requested the review withdraws its request within 90 days of the date of publication of notice of initiation. Because as stated above, DOSCO/SeAH and HiSteel withdrew their respective review requests, and no other party requested an administrative review of these companies, we are rescinding the administrative review with respect to DOSCO/SeAH and HiSteel, pursuant to 19 CFR 351.213(d)(1).

Preliminary Results of Review

We preliminarily determine that the following weighted-average dumping margin exists for the period September 1, 2021, through August 31, 2022:

Producer/exporter | Weighted- average dumping margin (percent)
NEXTEEL Co., Ltd | 0.00

Disclosure and Public Comment

Commerce intends to disclose the calculations performed to interested parties within five days after public announcement of the preliminary results.⁹ Interested parties may submit case briefs no later than 30 days after the date of publication of this notice.¹⁰ Rebuttal briefs, limited to issues raised in the case briefs, may be filed no later than seven days after the deadline for filing case briefs.¹¹ Interested parties who submit case briefs or rebuttal briefs in this proceeding are encouraged to submit with each argument: (1) a statement of the issue; (2) a brief summary of the argument; and (3) a table of authorities.¹² Commerce has modified certain of its requirements for serving documents containing business proprietary information, until further notice.¹³

⁹ See 19 CFR 351.224(b).

¹⁰ See 19 CFR 351.309(c).

¹¹ Commerce is exercising its discretion, under 19 CFR 351.309(d)(1), to alter the time limit for filing of rebuttal briefs.

¹² See 19 CFR 351.309(c)(2) and (d)(2).

¹³ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS.¹⁴ Hearing requests should contain: (1) the party's name, address, and telephone number; (2) the number of participants; and (3) a list of issues to be discussed. Issues raised in the hearing will be limited to those raised in the respective case briefs. If a request for a hearing is made, Commerce intends to hold the hearing at a time and date to be determined. An electronically filed hearing request must be received successfully in its entirety by Commerce's electronic records system, ACCESS by 5:00 p.m. Eastern Time within 30 days after the date of publication of this notice.

¹⁴ See 19 CFR 351.310(c).

Verification

On February 7, 2023, Nucor Tubular Products Inc., a domestic interested party, requested that Commerce conduct verification of NEXTEEL's responses. Accordingly, as provided in section 782(i)(3) of the Act, we verified information relied upon for the preliminary results of this review.

Assessment Rates

Upon completion of the final results of this administrative review, Commerce shall determine, and U.S. Customs and Border Protection (CBP) shall assess, antidumping duties on all appropriate entries.¹⁵ If the weighted average dumping margin for NEXTEEL is not zero or de minimis (i.e., less than 0.5 percent) in the final results of this review, we intend to calculate importer-specific ad valorem antidumping duty assessment rates based on the ratio of the total amount of dumping calculated for each importer's examined sales to the total entered value of those same sales in accordance with 19 CFR 351.212(b)(1).¹⁶ If the weighted-average dumping margin or an importer-specific assessment rate is zero or de minimis in the final results of review, we intend to instruct CBP to liquidate entries without regard to antidumping duties.¹⁷ The final results of this administrative review shall be the basis for the assessment of antidumping duties on entries of merchandise covered by the final results of this review and for future deposits of estimated duties, where applicable.¹⁸

¹⁵ See 19 CFR 351.212(b).

¹⁶ See Antidumping Proceedings: Calculation of the Weighted-Average Dumping Margin and Assessment Rate in Certain Antidumping Proceedings: Final Modification, 77 FR 8101 (February 14, 2012).

¹⁷ Id. 77 FR at 8102; see also 19 CFR 351.106(c)(2).

¹⁸ See section 751(a)(2)(C) of the Act.

For entries of subject merchandise during the POR produced by NEXTEEL for which it did not know that the merchandise it sold was destined for the United States, we will instruct CBP to liquidate unreviewed entries at the all-others rate if there is no rate for the intermediate company(ies) involved in the transaction.¹⁹

¹⁹ For a full discussion of this practice, see Antidumping and Countervailing Duty Proceedings: Assessment of Antidumping Duties, 68 FR 23954 (May 6, 2003).

Because Commerce is rescinding this review with respect to DOSCO/SeAH and HiSteel, Commerce will instruct CBP to assess antidumping duties on all appropriate entries of HWR during the POR at rates equal to the cash deposit rate of estimated antidumping duties required at the time of entry, or withdrawal from warehouse, for consumption, in accordance with 19 CFR 351.212(c)(1)(i).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective upon publication in the Federal Register of the notice of final results of administrative review for all shipments of the subject merchandise entered, or withdrawn from warehouse, for consumption on or after the date of publication as provided by section 751(a)(2)(C) of the Act: (1) the cash deposit rate for the exporter listed above will be equal to the weighted-average dumping margin established in the final results of this review, except if the rate is less than 0.50 percent and therefore de minimis within the meaning of 19 CFR 351.106(c)(1), in which case the cash deposit rate will be zero; (2) for merchandise exported by a company not covered in this review but covered in a prior segment of the proceeding, the cash deposit rate will continue to be the company-specific cash deposit rate published in the completed segment for the most recent period; (3) if the exporter is not a firm covered in this review, or a previous segment, but the producer is, then the cash deposit rate will be the rate established in the completed segment for the most recent period for the producer of the merchandise; and (4) the cash deposit rate for all other producers or exporters will continue to be 3.24 percent, the all-others rate established in the less-than-fair-value investigation.²⁰ These deposit requirements, when imposed, shall remain in effect until further notice.

²⁰ See Order.

Final Results of Review

Unless the deadline is otherwise extended, Commerce intends to issue the final results of this administrative review, including the results of its analysis of issues raised by interested parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i)(1) of the Act and 19 CFR 351.221(b)(4).

Dated: July 31, 2023.
Lisa W. Wang,
Assistant Secretary for Enforcement and Compliance.

Appendix

List of Topics Discussed in the Preliminary Decision Memorandum

I. Summary

II. Background

III. Scope of the Order

IV. Partial Rescission of Administrative Review

V. Discussion of the Methodology

VI. Recommendation

[FR Doc. 2023-16688 Filed 8-3-23; 8:45 am]

BILLING CODE 3510-DS-P